DEPARTMENT OF LABOR

Employment and Training Administration

Revised Schedule of Remuneration for the UCX Program

Under Section 8521(a)(2) of Title 5 of the United States Code, the Secretary of Labor is required to issue a Schedule of Remuneration specifying the pay and allowances for each pay grade of members of the military services. The schedules are used to calculate the base period wages and benefits payable under the Unemployment Compensation for Ex-servicemembers (UCX) Program.

The revised schedule reflects increases in military pay and allowances which are effective as of January 2, 2005.

Accordingly, the following new Schedule of Remuneration, issued pursuant to 20 CFR 614.12(c), applies to UCX “first claims” filed beginning with the first day of the first week which begins on or after January 2, 2005.

Pay grade | Monthly wage rate
(1) Commissioned Officers
0-10 | $15,794.44
0-9 | 15,505.47
0-8 | 14,332.05
0-7 | 13,029.68
0-6 | 11,110.25
0-5 | 9,350.01
0-4 | 7,980.46
0-3 | 6,243.46
0-2 | 4,978.80
0-1 | 3,793.06
(2) Commissioned Officers With Over 4 Years Active Duty As An Enlisted Member or Warrant Officer
0-3E | 7,261.85
0-2E | 5,954.09
0-1E | 5,070.74
(3) Warrant Officers
W-5 | 8,241.70
W-4 | 7,290.50
W-3 | 6,237.04
W-2 | 5,348.60
W-1 | 4,486.11
(4) Enlisted Personnel
E-9 | 6,979.58
E-8 | 5,876.55
E-7 | 5,176.04
E-6 | 4,475.77
E-5 | 3,704.19
E-4 | 3,071.39
E-3 | 2,751.65
E-2 | 2,618.25
E-1 | 2,388.62

The publication of this new Schedule of Remuneration does not revoke or change the period of time for any prior schedule that was in effect.

Signed at Washington, DC, on February 28, 2005.
Emily Stover DeRocco,
Assistant Secretary of Labor.

[FR Doc. E5-896 Filed 3-3-05; 8:45 am]

BILLING CODE 4510-30-P